DEPARTMENT OF ENERGY

Federal Energy Regulatory Commission

[Project No. 14362-000]

AMENICO Green Solutions, LLC; Notice of Preliminary Permit Application Accepted for Filing and Soliciting Comments and Motions To Intervene

On February 8, 2012, AMENICO Green Solutions, LLC filed an application for a preliminary permit, pursuant to section 4(f) of the Federal Power Act (FPA), proposing to study the feasibility of the Pittsfield Mill Dam Hydropower Project (Pittsfield Mill Dam Project or project) to be located on Suncook River, in the Town of Pittsfield, Merrimack County, New Hampshire. The sole purpose of a preliminary permit, if issued, is to grant the permit holder priority to file a license application during the permit term. A preliminary permit does not authorize the permit holder to perform any land-disturbing activities or otherwise enter upon lands or waters owned by others without the owners' express permission.

The proposed project would consist of the following: (1) The existing 421-foot-long, 21-foot-high Pittsfield Mill dam, which is owned by the New Hampshire Department of Environmental Services; (2) an existing 20 acre impoundment with 112 acre-feet of storage capacity at the spillway crest elevation of 474.5 feet above mean sea level (MSL); (3) an existing intake structure; (4) an existing 9-foot-diameter, 200-foot-long steel penstock; (5) an existing powerhouse containing an existing 415 kilowatt turbine-generator; (6) an existing 65-foot-long tailrace; (7) a new 200-foot-long transmission line; and (8) appurtenant facilities. The estimated annual generation of the Pittsfield Mill Dam Project would be 2.0 gigawatt-hours (GWH).

Applicant Contact: Mr. Anthony P. Giunta, Manager, AMENICO Green Solutions, LLC, 5 Main Street, Pittsfield, NH 03263; phone: (603) 228-3611.

FERC Contact: John Ramer; phone: (202) 502-8969.

Deadline for filing comments and motions to intervene: 60 days from the issuance of this notice. Comments and motions to intervene may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street NE., Washington, DC 20426.

More information about this project, including a copy of the application, can be viewed or printed on the “eLibrary” link of Commission's Web site at http://www.ferc.gov/docs-filing/elibrary.asp. Enter the docket number (P-14362-000) in the docket number field to access the document. For assistance, contact FERC Online Support.

Dated: March 1, 2012.
Kimberly D. Bose,
Secretary.

[FR Doc. 2012-5537 Filed 3-6-12; 8:45 am]

BILLING CODE 6717-01-P